DEPARTMENT OF ENERGY

Federal Energy Regulatory Commission

[Docket No. NJ12-3-000]

City of Banning, CA; Notice of Petition for Declaratory Order

Take notice that on December 9, 2011, pursuant to Rules 205 and 207 of the Rules of Practice and Procedure of the Federal Energy Regulatory Commission (Commission), 18 CFR 385.205, 385.207 (2011), and consistent with the provisions of the Transmission Owner (TO) Tariff of the City of Banning, California (Banning), Banning filed a Petition for Declaratory Order, seeking a declaratory order to (1) accept Banning's annual revisions to its Transmission Revenue Balancing Account Adjustment (TRBAA); (2) approve Banning's first annual update to the costs of its Existing Transmission Contracts (ETC) with Southern California Edison Company for purposes of recovery of such costs through the ETC Pass-through Clause contained in Banning's TO Tariff; (3) accept revisions to Appendix I to Banning's TO Tariff to reflect Banning's revised TRBAA, forcasted calendar year 2012 ETC costs, and updated Base, High, and Low Voltage Transmission Revenue Requirements (TRR); (4) waive the sixty-day notice requirement; (5) waive the filing fee and any other fees associated with the requested revisions; and (6) grant any other relief or waivers necessary or appropriate for approval of implementation of the revisions to Banning's Base TRR, TRBAA, High and Lower Voltage TRRs, and corresponding modifications to Appendix I of Banning's TO Tariff effective as of January 1, 2012.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on December 30, 2011.

Dated: December 15, 2011.
Kimberly D. Bose,
Secretary.

[FR Doc. 2011-32743 Filed 12-21-11; 8:45 am]

BILLING CODE 6717-01-P